DEPARTMENT OF AGRICULTURE

Forest Service

Humboldt (NV) Resource Advisory Committee

AGENCY: Forest Service, USDA.

ACTION: Notice of meeting.

SUMMARY: The Humboldt (NV) Resource Advisory Committee will meet in Winnemucca, Nevada. The committee is authorized under the Secure Rural Schools and Community Self-Determination Act (Pub. L. 110-343) (the Act) and operates in compliance with the Federal Advisory Committee Act. The purpose of the committee is to improve collaborative relationships and to provide advice and recommendations to the Forest Service concerning projects and funding consistent with the title II of the Act. The meeting is open to the public. The purpose of the meeting is to review projects and to decide on the implementaion and recommend funding allocations for selected projects.

DATES: The meeting will be held August 11, 2011, 10 a.m.

ADDRESSES: The meeting will be held at 1085 Fairgrounds Rd., UNR Extension Office, 4H Meeting Room, Winnemucca, Nevada 89445. Written comments may be submitted as described under SUPPLEMENTARY INFORMATION:.

All comments, including names and addresses when provided, are placed in the record and are available for public inspection and copying. The public may inspect comments received at the Santa Rosa Ranger District, 1200 E. Winnemucca Blvd., Winnemucca, NV 89445. Please call ahead to 775-623-5025 to facilitate entry into the building to view comments.

FOR FURTHER INFORMATION CONTACT: Jeff Ulrich, RAC Designated Federal Official, Santa Rosa Ranger District, 1200 E. Winnemucca Blvd., Winnemucca, Nevada 89445, 775-623-5025, e-mail jlulrich@fs.fed.us.

Individuals who use telecommunication devices for the deaf (TDD) may call the Federal Information Relay Service (FIRS) at 1-800-877-8339 between 8 a.m. and 8 p.m., Eastern Standard Time, Monday through Friday. Requests for reasonable accomodation for access to the facility or procedings may be made by contacting the person listed FOR FURTHER INFORMATION CONTACT.

SUPPLEMENTARY INFORMATION: The following business will be conducted: Review and approve previous meeting's minutes and busines expenses, recommend and decide on funding allocations for proposed projects, and provide an opportunity for public comment.

More informaton is available at: https://fsplaces.fs.fed.us/fsfiles/unit/wo/secure_rural_schools.nsf. Anyone who would like to bring related matters to the attention of the committee may file written statements with the committee staff before or after the meeting. The agenda will include time for people to make oral statements of three minutes or less. Individuals wishing to make an oral statement should request in writing by August 7, 2011 to be scheduled on the agenda.

Written comments and requests for time for oral comments must be sent to Santa Rosa Ranger District, 1200 E. Winnemucca Blvd., Winnemucca, Nevada 89445 or by e-mail to sjingram@fs.fed.us or via facsimile to 775-625-1200.

Dated: July 12, 2011.
Jeanne M. Higgins,
Forest Supervisor.

[FR Doc. 2011-17967 Filed 7-15-11; 8:45 am]

BILLING CODE 3410-11-P